DEPARTMENT OF COMMERCE

International Trade Administration

[A-357-810]

Notice of Extension of Time Limit of Preliminary Results of Antidumping Duty Administrative Review: Oil Country Tubular Goods, Other Than Drill Pipe, From Argentina

AGENCY: Import Administration, International Trade Administration, Department of Commerce.

ACTION: Notice of Extension of Time Limit of Preliminary Results of Administrative Review.

EFFECTIVE DATE: (Insert date of publication in Federal Register)

FOR FURTHER INFORMATION CONTACT: Fred Baker at (202) 482-2924 or Robert James at (202) 482-0649; Antidumping and Countervailing Duty Enforcement Group III, Office Eight, Import Administration, International Trade Administration, U.S. Department of Commerce, 14th Street and Constitution Avenue N.W., Washington, DC 20230.

SUPPLEMENTARY INFORMATION:

The Applicable Statute and Regulations

Unless otherwise indicated, all citations to the statute are references to the provisions effective January 1, 1995, the effective date of the amendments made to the Tariff Act of 1930 (the Tariff Act) by the Uruguay Round Agreements Act (URAA). In addition, unless otherwise indicated, all citations to the Department of Commerce (the Department) regulations refer to the regulations codified at 19 CFR Part 351 (April 2001).

Background

In accordance with 19 CFR 351.213(b)(2), on August 31, 2001, the Department received a timely and properly filed request from United States Steel LLC, petitioner in the original investigation, for a review of the imports by producer Acindar Industria Argentina de Aceros, S.A. Also on August 31, 2001, the Department received a request from North Star Steel Ohio, a domestic producer of oil country tubular goods, for a review of the imports by producer Siderca S.A.I.C. On October 1, 2001, the Department published a notice of initiation of this administrative review covering the period August 1, 2000 through July 31, 2001. See Initiation of Antidumping and Countervailing Duty Administrative Reviews and Requests for Revocation in Part, 66 FR 49924 (October 1, 2001).

Extension of Time Limits for Preliminary Results

Pursuant to section 751(a)(3)(A) of the Tariff Act, the Department shall issue preliminary results in an administrative review of an antidumping duty order within 245 days after the last day of the anniversary month of the date of publication of the order. The Tariff Act further provides, however, that the Department may extend that 245-day period to 365 days if it determines it is not practicable to complete the review within the foregoing time period.

In the course of this proceeding interested parties have raised questions regarding submitted financial statement reconciliations, cost calculations, and the accuracy of the no-shipment claim by Siderca S.A.I.C. Due to the need to analyze these questions, it is not practicable to complete this review by the current deadline of May 3, 2002.

Therefore, in accordance with section 751(a)(3)(A) of the Tariff Act, the Department is extending the time limit for the preliminary results by 120 days, until no later than August 31, 2002. The final results continue to be due 120 days after the publication of the preliminary results.

This notice is published in accordance with section 751(a)(1) and 777(i)(1) of the Tariff Act.

February 7, 2002
Barbara E. Tillman,
Acting Deputy Assistant Secretary for Import Administration, Group III.

[FR Doc. 02-3539 Filed 2-12-02; 8:45 am]

BILLING CODE 3510-DS-S